DEPARTMENT OF TRANSPORTATION

Federal Aviation Administration

Advisory Circular 23.1419-2C, Certification of Part 23 Airplanes for Flight in Icing Conditions

AGENCY: Federal Aviation Administration (FAA), DOT.

ACTION: Notice of availability of proposed advisory circular (AC) and request for comments.

SUMMARY: This notice announces the availability of and requests comments on a proposed revision to AC 23.1419-2C. This proposed revision adds guidance for showing compliance to § 23.1419(a), in particular the part 23, Subpart B requirements introduced at Amendment 23-43. Proposed guidance is added for fluid ice protection systems, primary ice detection systems, ice protection of air data systems, failure analyses of ice protection systems, and modifications to airplanes certificated for flight in icing. The format is also changed to improve readability of the document.

DATES: Comments must be received on or before April 19, 2004.

ADDRESSES: Send all comments on the proposed AC to: Federal Aviation Administration, Small Airplane Directorate, Aircraft Certification Service, Regulations and Policy (ACE-111), 901 Locust Street, Kansas City, Missouri 64106.

FOR FURTHER INFORMATION CONTACT: Mr. Paul Pellicano, Standards Office, Small Airplane Directorate, Aircraft Certification Service, Kansas City, Missouri 64106, telephone (770) 703-6064, fax (816) 329-4090.

SUPPLEMENTARY INFORMATION: Any person may obtain a copy of this proposed AC by contacting the person named above under FOR FURTHER INFORMATION CONTACT. A copy of the proposed AC will also be available on the Internet at http://www.airweb.faa.gov/AC within a few days.

Comments Invited: We invite interested parties to submit comments on the proposed AC. Commenters must identify AC 23.1419-2C and submit comments to the address specified above. The FAA will consider all communications received on or before the closing date for comments before issuing the final AC. The proposed AC and comments received may be inspected at the Standards Office (ACE-110), 901 Locust, Room 301, Kansas City, Missouri, between the hours of 8:30 and 4 p.m. weekdays, except Federal holidays by making an appointment in advance with the person listed under FOR FURTHER INFORMATION CONTACT.

Background: When issued, AC 23.1419-2C Certification of Part 23 Airplanes for Flight in Icing Conditions will replace AC 23.1419-2B, Certification of Part 23 Airplanes for Flight in Icing Conditions, dated September 26, 2002.

The listed means of compliance have been found acceptable and historically successful, but they are not the only methods that can be used to show compliance. In some cases, highly sophisticated airplanes may require more accurate or substantial solutions. Accordingly, the FAA is proposing and requesting comments on AC 23.1419-2C.

Issued in Kansas City, Missouri on February 6, 2004.
Dorenda D. Baker,
Manager, Small Airplane Directorate, Aircraft Certification Office.

[FR Doc. 04-3628 Filed 2-18-04; 8:45 am]

BILLING CODE 4910-13-P